DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains in the possession of the American Museum of Natural History, New York, NY.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by American Museum of Natural History professional staff in consultation with representatives of the Hawai’i Island Burial Council, Hui Malama I Na Kupuna 'O Hawai’i Nei, Kaua’i/Ni’ihau Island Burial Council, Maui/Lana’i Island Burial Council, Moloka’i Island Burial Council, O'ahu Island Burial Council, and Office of Hawaiian Affairs.

In an unknown year, human remains representing a minimum of one individual were collected by an unknown person from “Sandwich Islands.” The American Museum of Natural History received these remains in 1929 as a gift from Jessie Y. Loomis in the name of Earnest Yates Loomis, deceased. The American Museum of Natural History’s documentation states that these human remains had been held by the American Institute of Phrenology, but it does not indicate whether Mr. or Mrs. Loomis was a member of the American Institute of Phrenology. The American Museum of Natural History has no information regarding the American Institute of Phrenology’s acquisition of these remains. No known individual was identified. No associated funerary objects are present.

In an unknown year, human remains representing a minimum of one individual were collected by an unknown person and identified as a “Sandwich Islander from Kahahlooa.” The American Museum of Natural History received these remains in 1929 as a gift from Jessie Y. Loomis in the name of Earnest Yates Loomis, deceased. The American Museum of Natural History’s documentation states that these human remains had been held by the American Institute of Phrenology, but it does not indicate whether Mr. or Mrs. Loomis was a member of the American Institute of Phrenology. American Museum of Natural History documentation indicates that, in 1867, these remains were in the possession of John Butler, Esq. The American Museum of Natural History has no information regarding the American Institute of Phrenology’s or Mr. Butler’s acquisition of these remains. No known individual was identified. No associated funerary objects are present.

These individuals have been identified as Native Hawaiian based on the American Museum of Natural History’s documentation describing each as a “Sandwich Islander.” Sandwich Islands is a former name of the Hawaiian Islands. Archeological, biological, geographic, linguistic, and consultation evidence indicate a lengthy Native Hawaiian occupation of the Hawaiian Islands. The geographic location reported for the human remains is consistent with the traditional territory of Native Hawaiians, represented here by the Hawai’i Island Burial Council, Hui Malama I Na Kupuna 'O Hawai’i Nei, Kaua’i/Ni’ihau Island Burial Council, Maui/Lana’i Island Burial Council, Moloka’i Island Burial Council, O'ahu Island Burial Council, and Office of Hawaiian Affairs.

Based on the above-mentioned information, officials of the American Museum of Natural History have determined that, pursuant to 43 CFR 10.2 (d)(1), the human remains listed above represent the physical remains of a minimum of two individuals of Native Hawaiian ancestry. Officials of the American Museum of Natural History also have determined that, pursuant to 43 CFR 10.2 (e), there is a relationship of shared group identity that can be reasonably traced between these Native Hawaiian human remains and the Hawai’i Island Burial Council, Hui Malama I Na Kupuna 'O Hawai’i Nei, Kaua’i/Ni’ihau Island Burial Council, Maui/Lana’i Island Burial Council, Moloka’i Island Burial Council, O'ahu Island Burial Council, and Office of Hawaiian Affairs.

This notice has been sent to officials of the Hawai’i Island Burial Council, Hui Malama I Na Kupuna 'O Hawai’i Nei, Kaua’i/Ni’ihau Island Burial Council, Maui/Lana’i Island Burial Council, Moloka’i Island Burial Council, O'ahu Island Burial Council, and Office of Hawaiian Affairs. Representatives of any other Native Hawaiian organization that believes itself to be culturally affiliated with these human remains should contact Elaine Guthrie, Acting Director of Cultural Resources, American Museum of Natural History, Central Park West at 79th Street, New York, NY 10024-5192, telephone (212) 769-5835, before August 12, 2002. Repatriation of the human remains to the Hawai’i Island Burial Council, Hui Malama I Na Kupuna 'O Hawai’i Nei, Kaua’i/Ni’ihau Island Burial Council, Maui/Lana’i Island Burial Council, Moloka’i Island Burial Council, O'ahu Island Burial Council, and Office of Hawaiian Affairs may begin after that date if no additional claimants come forward.

Dated: June 18, 2002
Robert Stearns,
Manager, National NAGPRA Program.

[FR Doc. 02-17415 Filed 7-10-02; 8:45 am]

BILLING CODE 4310-70-S